DEPARTMENT OF LABOR

Employment and Training Administration

[TA-W-53,169]

Dresser, Inc., Dresser Piping Specialties Division, Bradford, PA; Notice of Termination of Reconsideration

On June 16, 2004, the Department issued an Affirmative Determination Regarding Application for Reconsideration for workers and former workers of the subject firm. The Department's Notice of Determination was published in the Federal Register on June 30, 2004 (69 FR 39501).

In a communication dated July 8, 2004, the petitioner withdrew the request for administrative reconsideration. Consequently, further investigation in this case would serve no purpose, and the investigation has been terminated.

Signed in Washington, DC, this 9th day of July, 2004.
Linda G. Poole,
Certifying Officer, Division of Trade Adjustment Assistance.

[FR Doc. 04-16419 Filed 7-19-04; 8:45 am]

BILLING CODE 4510-30-P